DEPARTMENT OF TRANSPORTATION

Federal Railroad Administration

[Docket No. FRA-2023-0002-N-32]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Requests (ICRs) summarized below to the Office of Management and Budget (OMB) for review and comment. These ICRs describes the information collection and its expected burden. On August 8, 2023, FRA published a notice providing a 60-day period for public comment on the two ICRs.

DATES: Interested persons are invited to submit comments on or before November 20, 2023.

ADDRESSES: Written comments and recommendations for the proposed ICRs should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On August 8, 2023, FRA published a 60-day notice in the Federal Register soliciting public comment on the ICRs for which it is now seeking OMB approval. See 88 FR 53581. FRA has received no comments related to the proposed collections of information.

Before OMB decides whether to approve the proposed collections of information, it must provide 30-days' notice for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Passenger Train Emergency Procedures.

OMB Control Number: 2130-0545.

Abstract: The railroad passenger train emergency preparedness regulations under 49 CFR part 239, set forth FRA's requirements for railroads to meet Federal standards for the preparation, adoption, and implementation of emergency preparedness plans connected with the operation of passenger trains, including freight railroads hosting passenger rail service operations. Part 239 also requires each affected railroad to instruct its employees on the provisions of its plan. The information collected is necessary for compliance with the regulation.

Type of Request: Extension without change (with changes in estimates) of a currently approved collection.

Affected Public: Businesses (Railroads).

Form(s): N/A.

Respondent Universe: 34 railroads.

Frequency of Submission: On occasion.

Total Estimated Annual Responses: 1,572.

Total Estimated Annual Burden: 353 hours.

Total Estimated Annual Burden Hour Dollar Cost Equivalent: $30,342.

Title: Passenger Train Emergency Systems.

OMB Control Number: 2130-0576.

Abstract: This information collection is related to passenger train emergency systems regulations under 49 CFR part 238. The purpose of this part is to prevent collisions, derailments, and other occurrences involving railroad passenger equipment that cause injury or death to railroad employees, railroad passengers, or the general public, and to mitigate the consequences of such occurrences to the extent they cannot be prevented. Some of the regulations FRA established under this part include requirements for emergency passage through vestibule and other interior passageway doors and enhanced emergency egress and rescue signage; ¹ requirements for low-location emergency exit path markings to assist occupants in reaching and operating emergency exits, particularly under conditions of limited visibility; and standards to ensure emergency lighting systems are provided in all passenger cars and enhanced requirements for the survivability of emergency lighting systems in new passenger cars.

¹ 78 FR 71785 (Nov. 29, 2013).

Type of Request: Extension without change (with changes in estimates) of a currently approved collection.

Affected Public: Businesses (railroads).

Form(s): N/A.

Respondent Universe: 34 railroads.

Frequency of Submission: On occasion.

Total Estimated Annual Responses: 8,335.

Total Estimated Annual Burden: 755.

Total Estimated Annual Burden Hour Dollar Cost Equivalent: $64,841.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-23068 Filed 10-18-23; 8:45 am]

BILLING CODE 4910-06-P